GENERAL SERVICES ADMINISTRATION

41 CFR Parts 300-3, 300-70, 301-10, 301-70, Appendix C to Chapter 301, Parts 302-1, 302-4, and 304-2

[FTR Amendment 2017-01; FTR Case 2017-301; Docket No. 2017-0004, Sequence 1]

RIN 3090-AJ89

Federal Travel Regulation; Transportation Network Companies (TNC), Innovative Mobility Technology Companies, and Reporting Travel, Transportation, and Relocation Costs

AGENCY: Office of Government-wide Policy (OGP), General Services Administration (GSA).

ACTION: Direct final rule; request for comments.

SUMMARY: GSA is amending the Federal Travel Regulation (FTR) by adding terms and definitions for “innovative mobility technology company”, “taxi”, and “transportation network company (TNC)”, and designating “innovative mobility technology company” and “TNC” as forms of special conveyances. In addition, this direct final rule adds a due date by which agencies must report travel, transportation, and relocation costs and data to GSA. These actions are required by the Modernizing Government Travel Act.

DATES: This rule is effective on February 20, 2018 without further notice, unless GSA receives adverse comments by February 5, 2018.

GSA will consider whether these comments are significant enough to publish a timely withdrawal in the Federal Register informing the public that this direct final rule will not take effect. Please see SUPPLEMENTARY INFORMATION for more information on significant adverse comments.

ADDRESSES: Submit comments identified by FTR Case 2017-301 by any of the following methods:

• Regulations.gov: http://www.regulations.gov. Submit comments via the Federal eRulemaking portal by entering “FTR Case 2017-301” under the heading “Enter Keyword or ID” and selecting “Search”. Select the link “Submit a Comment” that corresponds with “FTR Case 2017-301” and follow the instructions provided on the screen. Please include your name, company name (if any), and “FTR Case 2017-301” on your attached document.

• Mail: General Services Administration, Regulatory Secretariat Division (MVCB), Attn: Lois Mandell, 1800 F Street NW, Washington, DC 20405.

Instructions: Please submit comments only and cite “FTR Case 2017-301” in all correspondence related to this case.

All comments received will be posted without change to http://www.regulations.gov, including any personal and/or business confidential information provided. To confirm receipt of your comment(s), please check www.regulations.gov approximately two to three days after submission to verify posting (except allow 30 days for posting of comments submitted by mail).

FOR FURTHER INFORMATION CONTACT: For clarification of content, contact Mr. Cy Greenidge, Program Analyst, Office of Government-wide Policy, at 202-219-2349 or cy.greenidge@gsa.gov. For more information pertaining to status or publication schedules, contact the Regulatory Secretariat (MVCB), 1800 F Street NW, Washington, DC 20405, 202-501-4755. Please cite FTR Case 2017-301.

SUPPLEMENTARY INFORMATION:

A. Public Participation

GSA is publishing this direct final rule without a prior proposed rule because this is a noncontroversial action required by statute, and GSA anticipates no significant adverse comments.

A significant adverse comment is defined as one where the comment explains why the rule would be inappropriate, including challenges to the rule's underlying premise or approach, or would be ineffective or unacceptable without a change. In determining whether a significant adverse comment is sufficient to terminate a direct final rulemaking, GSA will consider whether the comment raises an issue serious enough to warrant a substantive response in a notice-and-comment process. GSA notes that comments that are frivolous, insubstantial, or outside the scope of the rule would not be considered adverse under this procedure. A comment recommending a rule change in addition to the rule would not be considered a significant adverse comment, unless the comment states why the rule would be ineffective without the additional change. In addition, if a significant adverse comment applies to part of a rule and that part can be severed from the remainder of the rule (e.g., where a rule deletes several unrelated regulations), GSA may adopt as final those parts of the rule that are not the subject of a significant adverse comment. For further information about commenting on this rule, please see the ADDRESSES section of this document.

B. Authority for This Rulemaking

With the passage of Public Law (Pub. L.) 115-34, the Modernizing Government Travel Act (May 16, 2017), the Administrator of General Services was mandated to prescribe regulations to provide for reimbursement for the use of a TNC or innovative mobility technology company by Federal employees traveling on official business under title 5, chapter 57, subchapter I of the United States Code. In addition, Public Law 115-34 establishes a due date by which all Federal agencies must report travel, transportation, and relocation costs and data to the Administrator of General Services.

C. Background

In recent years, a new kind of transportation service provider, known as TNCs, have begun operating across the United States and the world. TNCs connect paying passengers with drivers for hire via websites and mobile applications (“apps”). TNCs are a form of special conveyance under the Federal Travel Regulation (FTR), and when permissible under local laws and ordinances, may be an efficient and cost-effective alternative to taxis or rental cars.

D. Discussion of Changes and Expected Impact of This Rule

As a result of Public Law 115-34, this direct final rule amends the FTR by defining the terms “innovative mobility technology company” and “TNC” and listing them as special conveyances. This direct final rule also defines the word “taxi” and will treat “taxi” and “TNC” as synonymous in that both are used to transport passengers for hire. These changes will explicitly authorize Federal agencies to reimburse employees for use of TNCs and innovative mobility technology companies while on official travel. The changes from this final direct rule will bring the Federal Travel Regulation more in line with modern transportation service trends and practices.

Additionally, this direct final rule adds the statutory due date for agency reporting of travel, transportation, and relocation costs and data to GSA. GSA will consolidate this data and report an analysis of it to the Office of Management and Budget (OMB) and Congress. GSA will work with stakeholders to evaluate this data and the travel programs to shape future policy decisions. These decisions may incorporate new technologies to enable efficient travel by Federal employees. Finally, all data submitted to GSA based upon changes in this direct final rule will be transparent, published, and available for public use along with the summarized data that is delivered to OMB and Congress.

E. Executive Orders 12866 and 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This direct final rule is a significant regulatory action and is subject to review by OIRA under section 6(b) of Executive Order 12866. GSA has further determined that this direct final rule is not a major rule under 5 U.S.C. 804.

F. Executive Order 13771

This final rule is not subject to the requirements of E.O. 13771 (82 FR 9339, February 3, 2017) because it is related to agency organization, management, or personnel.

G. Regulatory Flexibility Act

This direct final rule will not have a significant economic impact on a substantial number of small entities within the meaning of the Regulatory Flexibility Act, 5 U.S.C. 601, et seq. This direct final rule is also exempt from the Administrative Procedure Act pursuant to 5 U.S.C. 553(a)(2) because this direct final rule involves matters relating to agency management or personnel.

H. Paperwork Reduction Act

The Paperwork Reduction Act does not apply because the changes to the FTR do not impose recordkeeping or information collection requirements, or the collection of information from offerors, contractors, or members of the public that require the approval of the Office of Management and Budget (OMB) under 44 U.S.C. 3501, et seq.

I. Small Business Regulatory Enforcement Fairness Act

This direct final rule is also exempt from Congressional review prescribed under 5 U.S.C. 801. This direct final rule is not a major rule under 5 U.S.C. 804.

List of Subjects

41 CFR Part 300-3

Government employees, Travel and transportation expenses.

41 CFR Part 300-70

Government employees, Reporting and recordkeeping requirements, Travel and transportation expenses.

41 CFR Part 301-10

Common carriers, Government employees, Government property, Travel and transportation expenses.

41 CFR Part 301-70

Administrative practice and procedure, Government employees, Individuals with disabilities, Travel and transportation expenses.

41 CFR Appendix C to Chapter 301

Government employees, Travel and transportation expenses.

41 CFR Parts 302-1, 302-4, and 304-2

Government employees, Travel and transportation expenses.

Dated: December 22, 2017.
Emily W. Murphy,
Administrator.

For the reasons set forth in the preamble, GSA amends 41 CFR parts 300-3, 300-70, 301-10, 301-70, Appendix C to Chapter 301, parts 302-1, 302-4, and 304-2 as set forth below:

PART 300-3—GLOSSARY OF TERMS

1. The authority citation for part 300-3 continues to read as follows:

Authority: 5 U.S.C. 5707; 40 U.S.C. 121(c); 49 U.S.C. 40118; 5 U.S.C. 5738; 5 U.S.C. 5741-5742; 20 U.S.C. 905(a); 31 U.S.C. 1353; E.O. 11609, as amended, 3 CFR, 1971-1975 Comp., p. 586, Office of Management and Budget Circular No. A-126, Revised May 22, 1992.

2. Amend § 300-3.1 by adding, in alphabetical order, the definitions “Innovative mobility technology company”, “Taxi”, and “Transportation network company (TNC)”. The additions read as follows:

§ 300-3.1 What do the following terms mean?

* * * * *

Innovative mobility technology company—An organization, including a corporation, limited liability company, partnership, sole proprietorship, or any other entity, that applies technology to expand and enhance available transportation choices, better manages demand for transportation services, or provides alternatives to driving alone.

Note to definition of “Innovative mobility technology company”: Certain jurisdictions may have limits or prohibit the operation or use of innovative mobility technology companies. Federal employees are expected to follow all laws, including those related to innovative mobility technology companies, as well as choose the most cost effective level of service.

* * * * *

Taxi—A hired car that carries passengers to a destination for a fare based upon the distance traveled, time spent in the vehicle, other metric, or a flat rate to and from one point to another (e.g., a flat rate from downtown to a common carrier terminal).

* * * * *

Transportation network company (TNC)—A corporation, partnership, sole proprietorship, or other entity, that uses a digital network to connect riders to drivers affiliated with the entity in order for the driver to transport the rider using a vehicle owned, leased, or otherwise authorized for use by the driver to a point chosen by the rider; and does not include a shared-expense carpool or vanpool arrangement that is not intended to generate profit for the driver. Note: Certain jurisdictions may have limits or prohibit the operation or use of TNCs. Federal employees are expected to follow all laws, including those related to TNCs, as well as choose the most cost effective level of service.

* * * * *

PART 300-70—AGENCY REPORTING REQUIREMENTS

3. The authority citation for part 300-70 continues to read as follows:

Authority: 5 U.S.C. 5707; 5 U.S.C. 5738; 5 U.S.C. 5741-5742; 20 U.S.C. 905(a); 31 U.S.C. 1353; 40 U.S.C. 121(c); 49 U.S.C. 40118; E.O. 11609, as amended, 3 CFR, 1971-1975 Comp., p. 586.

4. Amend part 300-70 by revising the heading of Subpart A to read as follows:

Subpart A—Requirement To Report Agency Payments for Employee Travel, Transportation, and Relocation

5. Amend § 300-70.1 by revising the section heading and the introductory text to read as follows:

§ 300-70.1 What are the requirements for reporting payments for employee travel, transportation, and relocation?

Agencies (as defined in § 301-1.1 of this subtitle) must report total travel and transportation payments, including relocation, no later than November 30 of each year to GSA, as described in this part:

* * * * *

6. Revise § 300-70.2 through § 300-70.4 to read as follows:

§ 300-70.2 What information must we report?

Information on agency reporting requirements is available at www.gsa.gov/trip.

§ 300-70.3 When must we report pertinent travel, transportation, and relocation data?

All travel, transportation, and relocation data are due by the date prescribed in § 300-70.1. The head of your agency is responsible for ensuring this data is complete and accurate before submitting it to GSA.

§ 300-70.4 Must we report travel, transportation, and relocation data if we have major suborganizations?

Your report must cover all components of your agency.

PART 301-10—TRANSPORTATION EXPENSES

7. The authority citation for part 301-10 is revised to read as follows:

Authority: 5 U.S.C. 5707, 40 U.S.C. 121(c); 49 U.S.C. 40118; Office of Management and Budget Circular No. A-126, “Improving the Management and Use of Government Aircraft.” Revised May 22, 1992.

§ 301-10.3 [Amended]

8. Amend § 301-10.3 by removing from paragraph (d) “taxi” and adding “taxi, TNC, innovative mobility technology company,” in its place.

9. Revise § 301-10.308 to read as follows:

§ 301-10.308 What will I be reimbursed if I park my POV at a common carrier terminal while I am away from my official station?

Your agency may reimburse your parking fee as an allowable transportation expense not to exceed the cost of one of the following to/from the terminal as determined by your agency:

(a) The cost of a taxi.

(b) The cost of a TNC fare.

(c) The cost of using an innovative mobility technology company.

§ 301-10.400 [Amended]

10. Amend § 301-10.400 by removing from paragraph (a) “Taxicabs” and adding “Taxis, TNCs, or innovative mobility technology companies” in its place.

11. Revise the undesignated center heading that appears immediately before § 301-10.420 to read as follows:

Taxis, TNCs, Innovative Mobility Technology Companies, Shuttle Services, or Other Courtesy Transportation

12. Amend § 301-10.420 by—

a. Revising the section heading;

b. Removing from the introductory text of paragraph (a) “taxi,” and adding “taxi, TNC, innovative mobility technology company,” in its place; and

c. Removing from the introductory text of paragraph (c) “taxicabs” and adding “taxis, TNCs, or innovative mobility technology companies” in its place.

The revision reads as follows:

§ 301-10.420 When may I use a taxi, TNC, innovative mobility technology company, shuttle service or other courtesy transportation?

* * * * *

13. Amend § 301-10.421 by revising the section heading to read as follows:

§ 301-10.421 How much will my agency reimburse me for a tip to a taxi, TNC, innovative mobility technology company, shuttle service, courtesy transportation driver, or valet parking attendant?

* * * * *

PART 301-70—INTERNAL POLICY AND PROCEDURE REQUIREMENTS

14. The authority citation for part 301-70 is revised to read as follows:

Authority: 5 U.S.C. 5707; 40 U.S.C. 121(c); Sec. 2, Pub. L. 105-264, 112 Stat. 2350 (5 U.S.C. 5701, note); OMB Circular No. A-126, revised May 22, 1992; OMB Circular No. A-123, Appendix B, revised January 15, 2009.

§ 301-70.102 [Amended]

15. Amend § 301-70.102 by removing from paragraph (f) “commercially rented vehicles” and adding “taxis, TNCs, innovative mobility technology companies, or commercially rented vehicles” in its place.

Appendix C to Chapter 301 [Amended]

16. Amend Appendix C to Chapter 301 by—

a. Removing from the second table, under the heading “Commercial Transportation Information”, in the second column under the heading “Data elements”, in the last entry, the word “Taxi,” and adding “Taxi, TNC, Innovative mobility technology company,” in its place.

b. Removing from the third table, under the heading “Travel Expense Information”, in the second column under the heading “Data Elements”, the words “Car rental, Taxis, Other” and adding “Car rental, Taxi, TNC, Innovative mobility technology company, Other” in its place.

PART 302-1—GENERAL RULES

17. The authority citation for part 302-1 continues to read as follows:

Authority: 5 U.S.C. 5738; 20 U.S.C. 905(a).

§ 302-1.102 [Removed]

18. Remove § 302-1.102.

PART 302-4—ALLOWANCES FOR SUBSISTENCE AND TRANSPORTATION

19. The authority citation for part 302-4 continues to read as follows:

Authority: 5 U.S.C. 5738; 20 U.S.C. 905(a); E.O. 11609, 36 FR 13747, 3 CFR, 1971-1973 Comp., p. 586.

§ 302-4.302 [Amended]

20. Amend § 302-4.302, by removing from paragraph (b), “taxicab fares” and adding “taxi or TNC fares, or the cost of utilizing an innovative mobility technology company,” in its place.

PART 304-2—DEFINITIONS

21. The authority citation for part 304-2 continues to read as follows:

Authority: 5 U.S.C. 5707; 31 U.S.C. 1353.

§ 304-2.1 [Amended]

22. Amend § 304-2.1, in the definition “Travel, subsistence, and related expenses (travel expenses)”, in the first sentence, by removing “taxi fares” and adding “taxi or TNC fares, or the cost of utilizing an innovative mobility technology company,” in its place.

[FR Doc. 2017-28503 Filed 1-4-18; 8:45 am]

BILLING CODE 6820-14-P